DEPARTMENT OF TRANSPORTATION

Federal Aviation Administration

14 CFR Part 39

[Docket No. 98-CE-121-AD; Amendment 39-12255; AD 2000-25-02 R1]

RIN 2120-AA64

Airworthiness Directives; American Champion Aircraft Corporation 7, 8, and 11 Series Airplanes

AGENCY: Federal Aviation Administration, DOT.

ACTION: Final rule; correction.

SUMMARY: This amendment clarifies information contained in Airworthiness Directive (AD) 2000-25-02, which concerns certain American Champion Aircraft Corporation (ACAC) 7, 8, and 11 series airplanes. This AD currently requires inspecting the front and rear wood spars for damage, including installing any as-needed inspection holes; and repairing or replacing any damaged wood spar. We incorrectly referenced the initial inspection compliance time of this AD as “whichever occurs later.” The notice of proposed rulemaking (NPRM) contained the correct reference of “whichever occurs first.” This action revises the AD to reflect the correct reference in the compliance time. The actions specified by this AD are intended to detect and repair or replace damaged wood wing spars. Continued operation with such damage could progress to in-flight structural failure of the wing with consequent loss of control of the airplane.

EFFECTIVE DATE: The effective date of this AD is July 13, 2001.

The Director of the Federal Register previously approved the incorporation by reference of American Champion Aircraft Corporation (ACAC), Service Letter 406, Revision A, dated May 6, 1998, as of January 19, 2001 (65 FR 78905, December 18, 2000).

ADDRESSES: You may get service information referenced in this AD from the American Champion Aircraft Corporation, P.O. Box 37, 32032 Washington Avenue, Highway D, Rochester, Wisconsin 53167; internet address: www.amerchampionaircraft.com. You may examine this information at the Federal Aviation Administration (FAA), Central Region, Office of the Regional Counsel, Attention: Rules Docket No. 98-CE-121-AD, 901 Locust, Room 506, Kansas City, Missouri 64106; or at the Office of the Federal Register, 800 North Capitol Street, NW., suite 700, Washington, DC.

FOR FURTHER INFORMATION CONTACT: Mr. William Rohder, Aerospace Engineer, FAA, Chicago Aircraft Certification Office, 2300 E. Devon Avenue, Des Plaines, Illinois 60018; telephone: (847) 294-7697; facsimile: (847) 294-7834.

SUPPLEMENTARY INFORMATION:

Discussion

Has FAA taken any action to this point? A review of the service history of ACAC 7, 8, and 11 series airplanes that incorporate wood wing spars caused FAA to issue AD 2000-25-02, Amendment 39-12036 (65 FR 78905, December 18, 2000), which applies to certain American Champion Aircraft Corporation (ACAC) 7, 8, and 11 series airplanes. The AD currently requires inspecting the front and rear wood spars for damage, including installing any as-needed inspection holes; and repairing or replacing any damaged wood spar.

What has happened since AD 2000-25-02 to initiate this action? The compliance time of the initial inspection of AD 2000-25-02 is written as at the first annual inspection that occurs 30 calendar days or more after the effective date of the AD or within 13 calendar months after the effective date of the AD, whichever occurs later. We incorrectly referenced this compliance time as “whichever occurs later.” The notice of proposed rulemaking (NPRM) (64 FR 29972, June 4, 1999) contained the correct reference of “whichever occurs first.”

What has FAA determined? Consequently, FAA has determined that AD 2000-25-02 should be revised to ensure that the inspections and necessary replacements are accomplished in a timely manner.

Correction of Publication

What is the intent of this action? This document clarifies the intent of the compliance time by changing the “whichever occurs later” reference of the initial compliance time of AD 2000-25-02 to “whichever occurs first.” This document also adds the amendment to section 39.13 of the Federal Aviation Regulations (14 CFR 39.13).

This action only clarifies the intent of AD 2000-25-02 and makes a change to reflect what was originally proposed. It has no adverse economic impact and imposes no additional burden on any person than would have been necessary to accomplish the AD. Therefore, FAA has determined that prior notice and opportunity for public comment are unnecessary.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2000-25-02, Amendment 39-12036 (65 FR 78905, December 18, 2000), and by adding a new AD to read as follows:

2000-25-02 R1 American Champion Aircraft Company (ACAC): Amendment 39-12255; Docket No. 98-CE-121-AD; Revises AD 2000-25-02, Amendment 39-12036; which superseded AD 98-05-04, Amendment 39-10365 (63 FR 10297, March 3, 1998).

(a) What airplanes are affected by this AD? This AD applies to the following airplane models, all serial numbers, certificated in any category, that are equipped with wood wing spars:

(1) Group 1 airplanes: ACAC Models 7AC, 7ACA, S7AC, 7BCM (L-16A), 7CCM (L-16B), S7CCM, 7DC, S7DC, 7EC, S7EC, 7FC, 7JC, 11AC, S11AC, 11BC, S11BC, 11CC, and S11CC airplanes that have not been modified to incorporate an engine with greater than 90 horsepower.

(2) Group 2 airplanes: ACAC Models 7ECA, 7GC, 7GCA, 7GCAA, 7GCB, 7GCBA, 7GCBC, 7HC, 7KC, 7KCAB, 8GCBC, and 8KCAB airplanes; and any of the airplane models referenced in paragraph (a)(1) of this AD that have been modified to incorporate an engine with greater than 90 horsepower.

(b) Who must comply with this AD? Anyone who wishes to operate any of the above airplanes must comply with this AD.

(c) What problem does this AD address? The actions specified by this AD are intended to detect and repair or replace damaged wood wing spars. Continued operation with such cracks and damage could progress to an in-flight structural failure of the wing with consequent loss of control of the airplane.

(d) What actions must be accomplished on all Group 1 airplanes to address this problem? For any Group 1 airplane as referenced in paragraph (a)(1) of this AD, the following must be accomplished to address the problem:

Action | Compliance time | Procedures
(1) Inspection Requirements: Inspect (detailed visual) the entire length of the front and rear wood wing spars for cracks, compression cracks, longitudinal cracks through the boltholes or nail holes, or loose or missing rib nails. We will refer to these conditions as damage throughout the rest of this section | Initially inspect at the first annual inspection that occurs 30 calendar days or more after July 13, 2001 (the effective date of this AD revision) or within the next 13 calendar months after January 19, 2001 (the effective date of AD 2000-25-02), whichever occurs first | Accomplish in accordance with the instructions in ACAC Service Letter No. 406, Revision A, dated May 6, 1998. This service bulletin specifies as an FAA-approved inspection option using a high-intensity flexible light (e.g., “Bend-A-Light”). A regular flashlight must not be used for this portion of the inspection. Alternative FAA-approved inspection options are listed in this service bulletin.
(2) Additional Inspection Requirements: If, after January 19, 2001 (the effective date of AD 2000-25-02), any airplane is involved in an accident/incident that involves wing damage (e.g., wing surface deformations such as abrasions, gouges, scratches, or dents, etc.) accomplish the inspection required in paragraph (d)(1) of this Ad | Prior to further flight after each accident/incident that involved wing damage | Accomplish in accordance with the instructions in ACAC Service Letter No. 406, Revision A, dated May 6, 1998. This service bulletin specifies as an FAA-approved inspection option using a high-intensity flexible light (e.g., “Bend-A-Light”). A regular flashlight must not be used for this portion of the inspection. Alternative FAA-approved inspection options are listed in this service bulletin.
(3) Replacement Requirements: If any damage is found during any inspection required by this AD, repair or replace the wood spar | Prior to further flight after the inspection where the damage is found | In accordance with Advisory Circular (AC) 43.13-1B, Acceptable Methods, Techniques, and Practices; or other data that is FAA-approved for wing spar repair or replacement.
(4) Reporting Requirements: If any damage is found during any inspection required by this AD, submit a Malfunction or Defect Report (M or D), FAA Form 8010-4, to the FAA | Within 10 days after the inspection where the damage was found or within 10 days after January 19, 2001 (the effective date of AD 2000-25-02), whichever occurs later. | Mail the information to: FAA, Chicago Aircraft Certification Office (ACO), Attention: Docket No. 98-CE-121-AD, 2300 E. Devon Avenue, Des Plaines, Illinois 60018; facsimile: (847) 294-7834. You may also file electronically as discussed in this AD.
(i) Include the airplane model and serial number, the extent of the damage (location and type), and the number of total hours time-in-service (TIS) on the damaged wing
(ii) You may submit M or D reports electronically by accessing the FAA AFS-600 web page at http://www.mmac.jccbi.gov/afs/afs600. Because you will lose access to the report once you electronically submit it, we recommend that you print two copies prior to submitting the report and forward one to the Chicago ACO and keep the other for your records
(iii) The Office of Management and Budget (OMB) approved the information collection requirements contained in this regulation under the provisions of the Paperwork Reduction Act of 1980 (14 U.S.C. 3501 et seq.). The OMB assigned this approval Control Number 2120-0056

(e) What actions must be accomplished on all Group 2 airplanes to address this problem? For any Group 2 airplane as referenced in paragraph (a)(2) of this AD, the following must be accomplished to address the problem:

Action | Compliance time | Procedures
(1) Inspection Requirements: Inspect (detailed visual) the entire length of the front and rear wood wing spars for cracks, compression cracks, longitudinal cracks through the boltholes or nail holes, or loose or missing rib nails. We will refer to these conditions as damage throughout the rest of this section | Initially inspect at the first annual inspection that occurs 30 calendar days or more after July 13, 2001 (the effective date of this AD revision) or within the next 13 calendar months after January 19, 2001 (the effective date of AD 2000-25-02), whichever occurs first. Repetitively inspect thereafter at intervals not to exceed 500 hours time-in-service (TIS) or 12 calendar months, whichever occurs first | Accomplish in accordance with the instructions in American Champion Aircraft Corporation (ACAC) Service Letter No. 406, Revision A, dated May 6, 1998. This service bulletin specifies an FAA-approved inspection option using a high-intensity flexible light (e.g., “Bend-A-Light”). A regular flashlight must not be used for this portion of the inspection. Alternative FAA approved inspection options are listed in this service bulletin.
(2) Additional Inspection Requirements: If, after January 19, 2001 (the effective date of AD 2000-25-02), any airplane is involved in an accident/incident that involves wing damage (e.g., wing surface deformations such as abrasions, gouges, scratches, or dents, etc.), accomplish the inspection required in paragraph (e)(1) of this AD | Prior to further flight after each accident/incident that involved wing damage | Accomplish in accordance with the instructions in American Champion Aircraft Corporation (ACAC) Service Letter No. 406, Revision A, dated May 6, 1998. This service bulletin specifies an FAA-approved inspection option using a high-intensity flexible light (e.g., “Bend-A-Light”). A regular flashlight must not be used for this portion of the inspection. Alternative FAA-approved inspection options are listed in this service bulletin.
(3) Replacement Requirements: If any damage is found during any inspection required by this AD, repair or replace the wood spar | Prior to further flight after the inspection where the damage is found | In accordance with Advisory Circular (AC) 43.13-1B, Acceptable Methods, Techniques, and Practices; or other data that is FAA-approved for wing spar repair or replacement.
(4) Reporting Requirement: If any damage is found during any inspection required by this AD, submit a Malfunction or Defect Report (M or D), FAA Form 8010-4, to the FAA | Within 10 days after the inspection where the damage was found or within 10 days after January 19, 2001 (the effective date of AD 2000-25-02), whichever occurs later | Mail the information to: FAA, Chicago Aircraft Certification Office (ACO), Attention: Docket 98-CE-121-AD, 2300 E. Devon Avenue, Des Plaines, Illinois 60018; facsimile: (847) 294-7834. You may also file electronically as discussed in this AD.
(i) Include the airplane model and serial number, the extent of the damage (location and type), and the number of total TIS on the damaged wing
(ii) You may submit M or D reports electronically by accessing the FAA AFS-600 web page at http://www.mmac.jccbi.gov/afs/afs600. Because you will lose access to the report once you electronically submit it, we recommend printing two copies prior to submitting the report and forward one to the Chicago ACO and keep the other for your records
(iii) The Office of Management and Budget (OMB) approved the information collection requirements contained in this regulation under the provisions of the Paperwork Reduction Act of 1980 (14 U.S.C. 3501 et seq.). The OMB assigned this approval Control Number 2120-0056

(f) Can I comply with this AD in any other way?

(1) You may use an alternative method of compliance or adjust the compliance time if:

(i) Your alternative method of compliance provides an equivalent level of safety; and

(ii) The Manager, Chicago Aircraft Certification Office, approves your alternative. Submit your request through an FAA Principal Maintenance Inspector, who may add comments and then send it to the Manager.

(2) ACAC Service Letter 406, Revision A, and ACAC Service Letter 417, Revision C, both dated May 6, 1998, specify additional inspection and installation alternatives over that included in the original issue of these service letters. All inspection and installation alternatives presented in these service letters are acceptable for accomplishing the applicable actions of this AD.

(3) Alternative methods of compliance approved in accordance with AD 2000-25-02 and AD 98-05-04 are approved as alternative methods of compliance for this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact the Chicago Aircraft Certification Office, 2300 E. Devon Avenue, Des Plaines, Illinois 60018; telephone: (847) 294-7697; facsimile: (847) 294-7834.

(h) What if I need to fly the airplane to another location to comply with this AD? The FAA can issue a special flight permit under sections 21.197 and 21.199 of the Federal Aviation Regulations (14 CFR 21.197 and 21.199) to operate your airplane to a location where you can accomplish the requirements of this AD.

(i) Are any service bulletins incorporated into this AD by reference? The inspections required by this AD must be done in accordance with American Champion Aircraft Corporation (ACAC), Service Letter 406, Revision A, dated May 6, 1998. The Director of the Federal Register previously approved this incorporation by reference under 5 U.S.C. 552(a) and 1 CFR part 51, as of January 19, 2001 (65 FR 78905, December 18, 2000). You can get copies from the American Champion Aircraft Corporation, P.O. Box 37, 32032 Washington Avenue, Highway D, Rochester, Wisconsin 53167; internet address: “www.amerchampionaircraft.com”. You can look at copies at FAA, Central Region, Office of the Regional Counsel, 901 Locust, Room 506, Kansas City, Missouri, or at the Office of the Federal Register, 800 North Capitol Street, NW, suite 700, Washington, DC.

(j) Are other AD's affected by this action? This amendment revises AD 2000-25-02, Amendment 39-12036; which superseded AD 98-05-04, Amendment 39-10365.

(k) When does this amendment become effective? This amendment becomes effective on July 13, 2001.

Issued in Kansas City, Missouri, on May 30, 2001.
Michael Gallagher,
Manager, Small Airplane Directorate, Aircraft Certification Service.

[FR Doc. 01-14143 Filed 6-5-01; 8:45 am]

BILLING CODE 4910-13-U